ENVIRONMENTAL PROTECTION AGENCY

[FRL-6600-3]

Notice of Proposed Agreement and Covenant Not To Sue Pursuant to the Comprehensive Environmental Response, Compensation, and Liability Act of 1980 (CERCLA), As Amended, 42 U.S.C. 101, Nahant Marsh Site, Davenport, IA

AGENCY: Environmental Protection Agency.

ACTION: Notice of Proposed Agreement and Covenant Not to Sue, Nahant Marsh Site, Davenport, Iowa.

SUMMARY: Notice is hereby given that a proposed agreement and covenant not to sue regarding property which the City of Davenport, Iowa intends to purchase at the Nahant Marsh Superfund Site, was signed by the United States Environmental Protection Agency (USEPA) on December 30, 1999, and by the United States Department of Justice on April 13, 2000. The property that is the subject of this agreement is owned by the Scott County Sportsmen's Association and is located at 4740 Wapello Avenue, Davenport, Iowa.

DATES: EPA will receive, on or before June 21, 2000, written comments relating to the proposed agreement and covenant not to sue.

ADDRESSES: Comments should be addressed to E. Jane Kloeckner, Senior Assistant Regional Counsel, United States Environmental Protection Agency, Region VII, 901 N. Fifth Street, Kansas City, Kansas 66101 and should refer to the Nahant Marsh Superfund Site.

The proposed agreement and covenant not to sue (Agreement) may be examined or obtained in person or by mail at the office of the United States Environmental Protection Agency, 901 No. Fifth Street, Kansas City, Kansas 66101, (913) 551-7010. In requesting a copy, please refer to the reference case and enclose a check in the amount of $14.25 (25 cents per page reproduction costs), payable to the United States Environmental Protection Agency.

SUPPLEMENTARY INFORMATION: The Nahant Marsh Site is part of a unique wetland located along the Upper Mississippi River. Soil and sediments at the Nahant Marsh site were contaminated with hazardous substances attributable to historic shooting range operations at the Scott County Sportsmen's Association Trap and Skeet Shooting Club facility. EPA investigations at the Site indicated a severe, acute ecological threat due to the lead shot contamination in the sediments. A threat to recreational users at the Site was also present due to the lead shot in the soil. EPA conducted a removal action at the Site in 1999 to mitigate these threats. The proposed agreement concerns the sale of the Association's facility and land.

EPA entered into a Consent Decree with the Scott County Sportsmen's Association to resolve the Association's liability under CERCLA for their operations which caused the release of hazardous substances at the facility. The Consent Decree settles claims by the United States, against Scott County Sportsmen's Association (SCSA) under Section 107 of the Comprehensive Environmental Response, Compensation, and Liability Act (CERCLA), 42 U.S.C. 9607. The Complaint of the United States seeks past and future CERCLA response costs incurred by EPA connection with the Nahant Marsh Superfund Site (the Site) and for damages for injuries to natural resources at the Site as determined by the Department of the Interior (Interior) and the United States Fish and Wildlife Service, the Natural Resource Trustee.

The Consent Decree requires SCSA to record a conservation easement for its property at the Site in favor of the Iowa Natural Heritage Foundation (INHF) for preservation of the land as a reserve for wildlife and to prevent residential, commercial and industrial development of the land. The SCSA is required to transfer ownership of its property at the Site to the City of Davenport, Iowa (the City), and notify EPA of the transfer. The SCSA has no assets other than the property it owns within the Site. All proceeds from the sale will be paid to the United States. The Consent Decree with SCSA is also subject to public comment pursuant to a separate Federal Register notice.

Pursuant to the Agreement with the City of Davenport that is the subject of this Federal Register notice, the City has agreed to purchase the property at its appraised value, to take the property subject to the conservation easement, to restrict residential or commercial development, and to use the property for environmental education purposes. In exchange, the United States grants a covenant not to sue, intended to release the City from liability which otherwise would stem from ownership of the Property. The City agrees to pay the purchase price to EPA ($81,000) and to DOI ($5,000). The purchase price is in accordance with fair market value of the property as determined by an appraiser and appraisal approved by the Department of Justice. Under the terms of the Agreement and Covenant Not to Sue, the City will also place a restrictive covenant on the land that restricts residential development. In exchange, the City will receive a covenant not to sue for response actions and costs relating to the Site pursuant to Section 107(a) of CERCLA. The City will also receive a covenant not to sue for natural resource damages under CERCLA.

Dated: April 24, 2000.
Nathaniel Scurry,
Acting Regional Administrator, United States Environmental Protection Agency, Region VII.

[FR Doc. 00-11564 Filed 5-19-00; 8:45 am]

BILLING CODE 6560-50-M